LEGAL SERVICES CORPORATION

Sunshine Act Meetings

TIME AND DATE: The Legal Services Corporation's Board of Directors and Finance Committee will meet telephonically on Tuesday, September 10, 2019. The meeting will commence at 4:00 p.m., EDT, and will continue until the conclusion of the agenda.

PLACE: John N. Erlenborn Conference Room, Legal Services Corporation Headquarters, 3333 K Street NW, Washington, DC 20007.

Public Observation: None.

Call-In Directions For Open Sessions:

• Call toll-free number: 1-866-451-4981;

• When prompted, enter the following numeric pass code: 4226175074

• When connected to the call, please immediately “MUTE” your telephone.

STATUS: Closed.

MATTERS TO BE CONSIDERED:

Board of Directors and Finance Committee

Closed Session

1. Approve agenda

2. Management briefing on collective bargaining agreement (CBA)

3. Consider and act on motion to approve Leaders Council and Emerging Leaders Council invitees

4. Consider and act on other business

5. Consider and act on motion to adjourn

CONTACT PERSON FOR INFORMATION: Katherine Ward, Executive Assistant to the Vice President & General Counsel, at (202) 295-1500. Questions may be sent by electronic mail to FR_NOTICE_QUESTIONS@lsc.gov.

Accessibility: LSC complies with the Americans with Disabilities Act and Section 504 of the 1973 Rehabilitation Act. Upon request, meeting notices and materials will be made available in alternative formats to accommodate individuals with disabilities. Individuals needing other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

September 3, 2019.
Katherine Ward,
Executive Assistant to the Vice President for Legal Affairs and General Counsel.

[FR Doc. 2019-19329 Filed 9-4-19; 11:15 am]

BILLING CODE 7050-01-P